DEPARTMENT OF HEALTH AND HUMAN SERVICES

Administration for Children and Families

[OMB #0970-0106]

Submission for Office of Management and Budget Review; Low Income Home Energy Assistance Program Carryover and Reallotment Report

AGENCY: Office of Community Services, Administration for Children and Families, U.S. Department of Health and Human Services.

ACTION: Request for Public Comments.

SUMMARY: The Administration for Children and Families (ACF) is requesting additional comments on the request for the Office of Management and Budget (OMB) to reinstate approval of the Low Income Home Energy Assistance Program (LIHEAP) Carryover and Reallotment Report (OMB #0970-0106, discontinued June 2025), with changes. Minor changes are proposed to break out awards into three sources and incorporate numbering and wording updates.

DATES:

Comments due September 18, 2025. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: The LIHEAP statute and regulations require LIHEAP grant recipients to report certain information to the U.S. Department of Health and Human Services (HHS) concerning funds forwarded and funds subject to reallotment. The 1994 reauthorization of the LIHEAP statute, the Human Service Amendments of 1994 (Pub. L. 103-252), requires that the Carryover and Reallotment Report for one fiscal year be submitted to HHS by the grant recipient before the allotment for the next fiscal year may be awarded.

In compliance with the Paperwork Reduction Act of 1995 (PRA), ACF discontinued the OMB number in June 2025 prior to the expiration date, to allow for public comment on the extension and revision request prior to OMB review.

ACF is requesting minor changes in the Carryover and Reallotment Report, a form for the collection of data, and the Instructions for Timely Obligation of LIHEAP Regular Block Grant, Reallotted, and Supplemental Funds and Reporting Funds for Carryover and Reallotment. The form clarifies the information being requested and ensures the submission of all the required information. The form facilitates our response to numerous queries each year concerning the amounts of obligated funds. Use of the form is mandatory for prior-year grant recipients that seek current-year LIHEAP funds except for (1) territorial grant recipients that consolidate their LIHEAP programs with the Social Services Block Grant under Public Law 95-134; and (2) tribal grant recipients that have integrated their LIHEAP programs under Public Law 102-477 for administration through the Bureau of Indian Affairs and that draw down funds solely during the integration period.

ACF published a Federal Register notice on June 13, 2025 (90 FR 25048) announcing a 60-day comment period to solicit public comment on the renewal of the LIHEAP Carryover and Reallotment Report with changes and the continuation of requiring grant recipients to engage in this data collection annually. ACF did not receive comments on this notice.

Respondents: State governments, tribal governments, territories, and the District of Columbia.

Annual Burden Estimates
Instrument | Total number of respondents | Annual number of responses per respondent | Average burden hours per response | Annual burden hours
LIHEAP Carryover and Reallotment Report | 188 | 1 | 3 | 564

Authority: 42 U.S.C. 8626(b)(2)(B).

Mary C. Jones,
ACF/OPRE Certifying Officer.

[FR Doc. 2025-15715 Filed 8-18-25; 8:45 am]

BILLING CODE 4184-80-P